DEPARTMENT OF ENERGY

Federal Energy Regulatory Commission

Combined Notice of Filings #1

December 29, 2006.

Take notice that the Commission received the following electric rate filings.

Docket Numbers: ER00-2268-020.

Applicants: Pinnacle West Capital Corporation.

Description: Pinnacle West Capital Corporation withdraws the default cost-based rate tariff designated as FERC Rate Schedule 2, Original Sheet 1-4.

Filed Date: 12/22/2006.

Accession Number: 20061227-0009.

Comment Date: 5 p.m. Eastern Time on Friday, January 12, 2007.

Docket Numbers: ER03-44-004.

Applicants: BOC Energy Services, Inc.

Description: BOC Energy Services, Inc. submits Second Revised Sheet No. 1 to Revised Rate Schedule FERC No. 1 to comply with Commission's Order 652.

Filed Date: 12/26/2006.

Accession Number: 20061228-0096.

Comment Date: 5 p.m. Eastern Time on Tuesday, January 16, 2007.

Docket Numbers: ER04-157-015; ER04-714-007.

Applicants: Western Massachusetts Electric Company.

Description: Bangor Hydro-Electric Company; Florida Power & Light Co., submit compliance filing of First Revised Sheet No. 709 and report on refund process effective 11/1/06.

Filed Date: 12/21/2006.

Accession Number: 20061227-0038.

Comment Date: 5 p.m. Eastern Time on Thursday, January 11, 2007.

Docket Numbers: ER04-208-003.

Applicants: Citigroup Energy Inc.

Description: Citigroup Energy, Inc. submits Triennial Updated Market Analysis pursuant to FERC's order issued 1/7/04.

Filed Date: 12/21/2006.

Accession Number: 20061227-0039.

Comment Date: 5 p.m. Eastern Time on Thursday, January 11, 2007.

Docket Numbers: ER06-864-004; ER06-1543-002; ER00-2885-012; ER01-2765-011; ER02-1582-010; ER02-1785-007; ER02-2102-011.

Applicants: Bear Energy LP; Brush Cogeneration Partners, Cedar Brakes I, L.L.C.; Cedar Brakes II, L.L.C.; Mohawk River Funding IV, L.L.C.; Thermo Cogeneration Partnership L.P.; Utility Contract Funding, L.L.C.

Description: Bear Energy LP et al notifies FERC that they entered into an Energy Management Agreement w/ MMC Energy North America, LLC et al in accordance with Order 652.

Filed Date: 12/26/2006.

Accession Number: 20061228-0021.

Comment Date: 5 p.m. Eastern Time on Tuesday, January 16, 2007.

Docket Numbers: ER06-1178-002; ER06-1179-002.

Applicants: SEMASS Partnership.

Description: SEMASS Partnership submits Revised Rate Schedule FERC No. 1 & Rate Schedule FERC No. 2 in compliance with Order 614.

Filed Date: 12/22/2006.

Accession Number: 20061227-0042.

Comment Date: 5 p.m. Eastern Time on Friday, January 12, 2007.

Docket Numbers: ER07-198-001.

Applicants: Highland Energy LLC.

Description: Highland Energy LLC submits Revised Original Sheet 1-2 to FERC Electric Tariff, Original Volume No.1, effective 12/8/06.

Filed Date: 12/21/2006.

Accession Number: 20061227-0041.

Comment Date: 5 p.m. Eastern Time on Thursday, January 11, 2007.

Docket Numbers: ER07-237-001.

Applicants: Monongahela Power Company.

Description: Monongahela Power Co. submits a Master Power Purchase & Sale Agreement with Allegheny Energy Supply Co., LLC in accordance with the requirements of Order 614.

Filed Date: 12/27/2006.

Accession Number: 20061228-0194.

Comment Date: 5 p.m. Eastern Time on Wednesday, January 17, 2007.

Docket Numbers: ER07-250-001.

Applicants: Westar Energy, Inc.

Description: Westar Energy, Inc. submits errata to their 11/28/06 filing, effective 6/1/07.

Filed Date: 12/26/2006.

Accession Number: 20061227-0040.

Comment Date: 5 p.m. Eastern Time on Tuesday, January 16, 2007.

Docket Numbers: ER07-335-000.

Applicants: E.ON U.S. LLC.

Description: E.ON U.S., LLC on behalf of Louisville Gas and Electric Co. et al submits a revised unexecuted Service Agreement for Network Integration Transmission Service.

Filed Date: 12/07/2006.

Accession Number: 20061211-0153.

Comment Date: 5 p.m. Eastern Time on Monday, January 8, 2007.

Docket Numbers: ER07-337-000.

Applicants: Reliant Energy Services, Inc.

Description: Reliant Energy Services, Inc. submits market-based rate tariff designated as FERC Electric Tariff, Third Revised Volume No. 1 and requests waiver of the 60-day notice requirement.

Filed Date: 12/18/2006.

Accession Number: 20061227-0023.

Comment Date: 5 p.m. Eastern Time on Monday, January 08, 2007.

Docket Numbers: ER07-367-000.

Applicants: Southern California Edison Company.

Description: Southern California Edison Company submits a Small Generator Interconnection Agreement and a Service Agreement for Wholesale Distribution Service with MM Tajiguas Energy, LLC.

Filed Date: 12/26/2006.

Accession Number: 20061227-0033.

Comment Date: 5 p.m. Eastern Time on Tuesday, January 16, 2007.

Docket Numbers: ER07-368-000.

Applicants: Orange & Rockland Utilities, Inc.

Description: Orange and Rockland, Inc. submits an amendment to its FERC Electric Tariff, Original Volume No. 3, to be effective 3/1/07.

Filed Date: 12/26/2006.

Accession Number: 20061227-0077.

Comment Date: 5 p.m. Eastern Time on Tuesday, January 16, 2007.

Docket Numbers: ER07-370-000.

Applicants: TexRep2 LLC.

Description: TexRep2, LLC submits its petition for acceptance of FERC Electric Tariff, Original Volume No. 1.

Filed Date: 12/26/2006.

Accession Number: 20061228-0055.

Comment Date: 5 p.m. Eastern Time on Tuesday, January 16, 2007.

Docket Numbers: ER07-371-000.

Applicants: Southwest Power Pool, Inc.

Description: Southwest Power Pool, Inc. and Calpine Oneta Power, L.P. submit revisions to its Open Access Transmission Tariff, in compliance with FERC's 9/26/06 Order.

Filed Date: 12/26/2006.

Accession Number: 20061228-0020.

Comment Date: 5 p.m. Eastern Time on Tuesday, January 16, 2007.

Docket Numbers: ER07-372-000.

Applicants: Southern California Edison Company.

Description: Southern California Edison submits a Small Generator Interconnection Agreement and Service Agreement for Wholesale Distribution Service with MM West Covina Two LLC.

Filed Date: 12/27/2006.

Accession Number: 20061228-0054.

Comment Date: 5 p.m. Eastern Time on Wednesday, January 17, 2007.

Docket Numbers: ER07-373-000.

Applicants: Southern California Edison Company.

Description: Southern California Edison Co. submits a Small Generator Interconnection Agreement and a Service Agreement for Wholesale Distribution Service w/ MM West Covina One LLC under ER07-373.

Filed Date: 12/27/2006.

Accession Number: 20061228-0056.

Comment Date: 5 p.m. Eastern Time on Wednesday, January 17, 2007.

Docket Numbers: ER07-374-000.

Applicants: Buena Vista Energy, LLC.

Description: Buena Vista Energy, LLC submits its application for order accepting Market-Based Rate Tariff, Granting Authorizations and Blanket Authority.

Filed Date: 12/27/2006.

Accession Number: 20061228-0199.

Comment Date: 5 p.m. Eastern Time on Wednesday, January 17, 2007.

Docket Numbers: ER07-375-000.

Applicants: Niagara Mohawk Power Corporation.

Description: Niagara Mohawk Power Corp., submits the First. Revised Tri-Lakes Agreement designated as First Revised Service Agreement 340 under FERC Electric Tariff, Original Volume No. 1.

Filed Date: 12/27/2006.

Accession Number: 20061228-0195.

Comment Date: 5 p.m. Eastern Time on Wednesday, January 17, 2007.

Docket Numbers: ER07-376-000.

Applicants: California Independent System Operator Corporation.

Description: California Independent System Operator Corp provides notice regarding the revised transmission Access Charges for five consecutive periods of 1/1/01-5/5/01 etc.

Filed Date: 12/27/2006.

Accession Number: 20061228-0197.

Comment Date: 5 p.m. Eastern Time on Wednesday, January 17, 2007.

Docket Numbers: ER07-377-000.

Applicants: TFS Capital LLC.

Description: TFS Capital, LLC submits their petition for acceptance of initial rate schedule.

Filed Date: 12/27/2006.

Accession Number: 20061228-0196.

Comment Date: 5 p.m. Eastern Time on Wednesday, January 17, 2007.

Docket Numbers: ER07-378-000.

Applicants: PJM Interconnection, L.L.C.

Description: PJM Interconnection, LLC submits revisions to the chart in Schedule 2 of the Open Access Transmission Tariff to incorporate revised revenue requirements for PPL University Park, LLC.

Filed Date: 12/27/2006.

Accession Number: 20061228-0198.

Comment Date: 5 p.m. Eastern Time on Wednesday, January 17, 2007.

Docket Numbers: ER98-2603-004; ER98-2603-005.

Applicants: Southwood 2000, Inc.

Description: Southwood 2000, Inc requests that this letter constitutes an Amendment to the 7/27/05 filing.

Filed Date: 12/22/2006.

Accession Number: 20061228-0097.

Comment Date: 5 p.m. Eastern Time on Friday, January 12, 2007.

Any person desiring to intervene or to protest in any of the above proceedings must file in accordance with Rules 211 and 214 of the Commission's Rules of Practice and Procedure (18 CFR § 385.211 and § 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-22688 Filed 1-5-07; 8:45 am]

BILLING CODE 6717-01-P